DEPARTMENT OF ENERGY

10 CFR Part 429

Certification, Compliance, and Enforcement for Consumer Products and Commercial and Industrial Equipment

CFR Correction

This rule is being published by the Office of the Federal Register to correct an editorial or technical error that appeared in the most recent annual revision of the Code of Federal Regulations.

In Title 10 of the Code of Federal Regulations, Parts 200 to 499, revised as of January 1, 2024, in section 429.69, at the end of paragraph (a)(1)(iii), reinstate the text “Represented values must be rounded to the nearest hundredth.”

[FR Doc. 2024-29415 Filed 12-11-24; 8:45 am]

BILLING CODE 0099-10-P